FEDERAL TRADE COMMISSION

Sunshine Act Meeting Notice

AGENCY: Federal Trade Commission.

Time and Date: 2 p.m., Tuesday, April 1, 2008.

Place: Federal Trade Commission Building, Room 532, 600 Pennsylvania Avenue, NW., Washington, DC 20580.

Status: Part of this meeting will be open to the public. The rest of the meeting will be closed to the public.

Matters to be Considered: Portion Open to Public: (1) Oral Argument in REALCOMP II, LTD., Docket 9320.

Portion Closed to the Public: (2) Executive Session to follow Oral Argument in REALCOMP II, LTD., Docket 9320.

Contact Person for More Information: Mitch Katz.

Office of Public Affairs: (202) 326-2180.

Recorded Message: (202) 326-2711.

Donald S. Clark,
Secretary.

[FR Doc. 08-955 Filed 2-29-08; 2:06 pm]

BILLING CODE 6750-07-M